DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 16, 2001.

Interested persons are invited to submit written comments regarding the subject matter of the investigations to the Director, Division of Trade Adjustment Assistance, at the address shown below, not later than April 16, 2001.

The petitions filed in this case are available for inspection at the Office of the Director, Division of Trade Adjustment Assistance, Employment and Training Administration, U.S. Department of Labor, Room C-5311, 200 Constitution Avenue, NW., Washington, DC 20210.

Signed at Washington, DC this 5th day of March, 2001.
Edward A. Tomchick,
Director, Division of Trade Adjustment Assistance.

Appendix
[Petitions instituted on 03/05/2001]
TA-W | Subject firm (petitioners) | Location | Date of petition | Product(s)
38,736 | Perfect Fit Industries (Comp) | Tell City, IN | 02/14/2001 | Bed Pillows.
38,737 | Hagale Industries, Inc (Comp) | Ardmore, OK | 02/16/2001 | Tailored Dress Slacks.
38,738 | Hagale Industries, Inc (Comp) | Republic, MO | 02/16/2001 | Tailored Dress Slacks.
38,739 | Allison Manufacturing Co (Comp) | Albemarle, NC | 02/14/2001 | Children's Apparel.
38,740 | Eaton TCPD (UAW) | Marshall, MI | 02/15/2001 | Automotive Locking Differentials.
38,741 | William Carter Co (Wrks) | Griffin, GA | 02/19/2001 | Children's Sleepwear.
38,742 | Munro and Co., Inc. (Comp) | Monett, MO | 02/14/2001 | Children's Shoes.
38,743 | Collis, Inc. (Wrks) | Elizabethtown, KY | 02/15/2001 | Metal Refrigerator Shelving.
38,744 | Kearfott Guidance (Wrks) | Wayne, NJ | 02/20/2001 | Navigation Products.
38,745 | Penridge Manufacturing (Comp) | Freeland, PA | 02/12/2001 | Men's and Ladies' Outerwear.
38,746 | Danieli Corp. (Wrks) | Cranberry Twp., PA | 02/01/2001 | Engineering, Sales, ect Machinery.
38,747 | Createc Corp. (Wrks) | Harrodsburg, KY | 02/19/2001 | Polystyrene Foam Packaging Material.
38,748 | Thompson River Lumber (Wrks) | Thompson Falls, MT | 02/09/2001 | Dimension Lumber.
38,749 | Guilford Mills, Inc. (Comp) | Herkimer, NY | 02/19/2001 | Jersey Knit Sheets.
38,750 | Porex Technologies (Wrks) | College Point, NY | 02/14/2001 | Tips for Writing Instruments.
38,751 | Dayton Tire (USWA) | Oklahoma City, OK | 02/16/2001 | Passenger Tires.
38,752 | F.L. Smithe Machine Co (Comp) | Duncansville, PA | 02/09/2001 | Envelope Making Machinery.
38,753 | Amphenol Corp. (IAMAW) | Sidney, NY | 02/09/2001 | Electrical & Environmental Connectors.
38,754 | West Point Stevens (UNITE) | Roanoke Rapids, NC | 02/15/2001 | Weaving—Towels, Bath Mats.
38,755 | Jewel Fashions, Inc (Wrks) | Jersey City, NJ | 02/15/2001 | Coats.
38,756 | Motor Products Owosso (UAW) | Owosso, MI | 02/12/2001 | Fractional Horsepower Motors.
38,757 | Gorge Lumber Co., Inc. (Comp) | Portland, OR | 02/22/2001 | Lumber Boards.
38,758 | PerkinElmer Optoelectroni (UAW) | St. Louis, MO | 02/22/2001 | Photocell Pellets, Silicon Wafters.
38,759 | GST Steel Co (UAW) | Kansas City, MO | 02/12/2001 | Steel Rod and Steel Grinding Balls.
38,760 | Biddeford Textile Corp (Wrks) | Biddeford, ME | 02/22/2001 | Electric Blankets.
36,761 | Snuffy's Pet Products (Comp) | McConnellsburg, PA | 02/13/2001 | Rawhide Dog Bones.
38,762 | Pridecraft Enterprises (Comp) | Enterprise, AL | 02/12/2001 | Precaution Gowns, Hamper Bags.
38,763 | Donora Sportswear Co (UNITE) | Donora, PA | 02/09/2001 | Mens' and Ladies' Jackets.
38,764 | Brown Wooten (Wrks) | Mt. Airy, NC | 02/12/2001 | Socks.
38,765 | Burlington Industries (Wrks) | Monticello, AR | 02/15/2001 | Area Floor Rugs.
38,766 | Spec Cast (Wrks) | Dyersville, IA | 02/13/2001 | Die Cast Machine.
38,767 | Ohio Art Co (The) (Comp) | Bryan, OH | 01/29/2001 | Etch-A-Sketch Asembly.
38,768 | Loogootee Manufacturing (Comp) | Loogootee, IN | 02/14/2001 | Outdoors Extension Cords.
38,769 | Deltrol Corp (IAM) | Milwaukee, WI | 02/14/2001 | Bushings, Clamps, Parts of Auto Shocks.
38,770 | Sky Jack (Wrks) | Wathewa, KS | 02/13/2001 | Repair and Rebuild Machinery.
38,771 | Elkins Hardwood Dimension (Comp) | Elkins, WV | 02/09/2001 | Wooden Bases used on Office Files.
38,772 | Hedstrom Corp (Wrks) | Alma, GA | 02/09/2001 | Trampoline Pads.
38,773 | Day and Zimmermann, Inc. (Wrks) | Parsons, KS | 02/12/2001 | Munitions.
38,774 | Vera Sportswear (Comp) | Charlestown, MA | 02/05/2001 | Ladies' Garments.
38,775 | Q and M Manufacturing (Wrks) | Cheboygan, MI | 02/13/2001 | Engine Stampings.
38,776 | Smith and Nephew, Inc (Comp) | Charlotte, NC | 02/13/2001 | Synthetic Orthopedic Cast Tape.
38,777 | Steele Apparel, Inc. (Comp) | Kilmichael, MS | 02/09/2001 | Ladies Career Apparel.
38,778 | Capitol Manufacturing Co (Comp) | Fayetteville, NC | 02/19/2001 | Wooden Picture Frame Moulding.
38,779 | Maxxim Medical, Inc. (Wrks) | Columbus, MS | 02/05/2001 | Surgical Drapes, Sterile Paks.
38,780 | Tecumseh Products Co (IBEW) | Somerset, KY | 02/13/2001 | Compressor Pumps for Air Conditioning.
38,781 | Calhoun Apparel, Inc (Comp) | Calhoun City, MS | 02/12/2001 | Men & Ladies' Career Apparel.
38,782 | Republic Technologies (Wrks) | Canton, OH | 02/11/2001 | Steel Bars.
38,783 | O-Z Gedney (Comp) | Pittston, PA | 02/21/2001 | Electrical Fittings.
38,784 | Joseph L. Schlesinger (Wrks) | Ridgefield, NJ | 02/08/2001 | Schiffli Machines.
38,785 | Vesuvius USA (USWA) | Tyler, TX | 02/13/2001 | Reproctories, Shrouds, Nozzles.
38,786 | Wing Industries (Wrks) | Greenville, TX | 02/07/2001 | Doors.
38,787 | Medley Co. Cedar, Inc. (Comp) | Pierce, ID | 02/23/2001 | Split Rail Fencing and Cedar Shakes.
38,788 | Cabinet Works LLC (IUE) | Jefferson City, TN | 02/19/2001 | TV Cabinets.
38,789 | Dietrich Milk Products (IBT) | Middlebury Cnt, PA | 02/22/2001 | Whole Milk Powder, Lactose Powder.

[FR Doc. 01-8338 Filed 4-4-01; 8:45 am]

BILLING CODE 4510-30-M